Title 3—

The President

Notice of May 15, 2001

Continuation of Emergency With Respect to Burma

On May 20, 1997, the President issued Executive Order 13047, certifying to the Congress under section 570(b) of the Foreign Operations, Export Financing, and Related Programs Appropriations Act, 1997 (Public Law 104-208), that the Government of Burma has committed large-scale repression of the democratic opposition in Burma after September 30, 1996, thereby invoking the prohibition on new investment in Burma by United States persons, contained in that section. The President also declared a national emergency to deal with the threat posed to the national security and foreign policy of the United States by the actions and policies of the Government of Burma, invoking the authority, inter alia, of the International Emergency Economic Powers Act (50 U.S.C. 1703(c)).

The national emergency declared on May 20, 1997, must continue beyond May 20, 2001, because the Government of Burma continues its policies of committing large-scale repression of the democratic opposition in Burma, threatening the national security and foreign policy of the United States. Therefore, in accordance with section 202(d) of the National Emergencies Act (50 U.S.C. 1622(d)), I am continuing the national emergency with respect to Burma. This notice shall be published in the Federal Register and transmitted to the Congress.

B

THE WHITE HOUSE,

May 15, 2001.

[FR Doc. 01-12598

Filed 5-16-01; 8:45 am]

Billing code 3195-01-P